DEPARTMENT OF STATE

[Public Notice: 9085]

The U.S. National Commission for UNESCO; Notice of Renewal of Committee Charter

I. Renewal Of Advisory Committee. The Department of State has renewed the Charter of the U.S. National Commission for the United Nations Educational, Scientific, and Cultural Organization (UNESCO). The U.S. National Commission for UNESCO, which operates pursuant to 22 U.S. Code 287o and the requirements of the Federal Advisory Committee Act (FACA), is a Federal Advisory Committee that provides recommendations to the U.S. Department of State.

The recommendations relate to the formulation and implementation of U.S. policy towards UNESCO on matters of education, science, communications, and culture. Also, it functions as a liaison with organizations, institutions, and individuals in the United States interested in the work of UNESCO.

The committee is comprised of representatives from various non-governmental organizations focused on matters of education, science, culture, and communications. And it also includes at-large individuals and state, local, and federal government representatives. The committee meets to provide information on UNESCO related topics and make recommendations.

For further information, please call Allison Wright, U.S. Department of State, (202) 663-0026.

Dated: April 1, 2015.
Allison Wright,
Executive Director, U.S. National Commission for UNESCO, Department of State.

[FR Doc. 2015-07917 Filed 4-6-15; 8:45 am]

BILLING CODE CODE 4710-19-P